DEPARTMENT OF THE INTERIOR

Bureau of Land Management

[BLM_CA_FRN_MO4500161911]

Notice of Public Meeting: Northern California District Resource Advisory Council

AGENCY: Bureau of Land Management, Interior.

ACTION: Notice of public meeting.

SUMMARY: In accordance with the Federal Land Policy and Management Act of 1976 and the Federal Advisory Committee Act of 1972, the U.S. Department of the Interior, Bureau of Land Management (BLM) Northern California District Resource Advisory Council (RAC) will meet as follows.

DATES: The Northern California District RAC has rescheduled its August 23-24, 2023, meeting for October 25, 2023, from 10 a.m. to 4 p.m. Pacific Time (PT); and October 26, 2023, from 8 a.m. to 3 p.m. PT.

ADDRESSES: The RAC will participate in a field tour on October 25 to public lands managed by the BLM Eagle Lake Field Office and host a business meeting on October 26. The field tour will commence and conclude, and the meeting will be held at, the BLM Eagle Lake Field Office, 2550 Riverside Drive, Susanville, CA 96130. A virtual participation option will be available. Meeting links and participation instructions will be provided to the public via news media, social media, the BLM California RAC web page blm.gov/get-involved/rac/California/northern-california-rac, and through personal contact 2 weeks prior to the meeting. Written comments pertaining to the meeting can be sent to the BLM Northern California District Office, at the earlier address, marked Attention: RAC meeting comments.

FOR FURTHER INFORMATION CONTACT: Public Affairs Officer Joseph J. Fontana, telephone: (530) 260-0189, email: jfontana@blm.gov.

Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: The 15-member RAC advises the Secretary of the Interior, through the BLM, concerning the issues relating to land use planning or the management of the public land resources located in northern California and northwest Nevada. For the October 26 meeting, agenda topics include review and comment on the Northwest California Integrated Resource Management Plan, an update on the management plan revision for the Cascade Siskiyou National Monument, an update on wild horse and burro management, and review of and comment on business plans for recreational facilities managed by the Redding and Arcata Field Offices.

All meetings are open to the public. A 30-minute public comment period will be available on October 26 at 11 a.m. PT. Depending on the number of persons wishing to speak and the time available, the amount of time for oral comments may be limited. Written public comments may be sent to the BLM Northern California District Office at the address listed in the ADDRESSES section of this notice. All comments received will be provided to the RAC.

Public Disclosure of Comments: Before including your address, phone number, email address, or other personal identifying information in your comment, you should be aware that your entire comment—including your personal identifying information—may be made publicly available at any time. While you can ask us in your comment to withhold your personal identifying information from public review, we cannot guarantee that we will be able to do so.

Members of the public are welcome on field tours but must provide their own transportation and meals. Individuals who plan to attend and need special assistance, such as sign language interpretation and other reasonable accommodations, should contact the BLM (see FOR FURTHER INFORMATION CONTACT).

Detailed meeting minutes for the RAC meetings will be maintained in the Northern California District Office. Minutes will also be posted to the California RAC web page.

Authority: 43 CFR 1784.4-2

Erica St. Michel,
Deputy State Director, Communications.

[FR Doc. 2023-21880 Filed 10-2-23; 8:45 am]

BILLING CODE 4331-15-P